DEPARTMENT OF TRANSPORTATION

Pipeline and Hazardous Materials Safety Administration

49 CFR Parts 107

RIN 2105-AE99

Civil Penalty Amounts; Correction

AGENCY: Department of Transportation (DOT or the Department).

ACTION: Final rule; technical correction.

SUMMARY: In accordance with the Federal Civil Penalties Inflation Adjustment Act Improvements Act of 2015, DOT published a final rule on May 3, 2021 to provide the 2021 inflation adjustment to civil penalty amounts that may be imposed for violations of certain DOT regulations. This rule corrects an error in that rulemaking resulting from an inaccurate amendatory instruction. The rule does not change any civil penalty amounts established in the final rule published on May 3, 2021.

DATES: Effective June 2, 2021.

FOR FURTHER INFORMATION CONTACT: Elizabeth Kohl, Attorney-Advisor, Office of the General Counsel, U.S. Department of Transportation, 1200 New Jersey Ave. SE, Washington, DC 20590, elizabeth.kohl@dot.gov.

SUPPLEMENTARY INFORMATION: This rule corrects an error in DOT's final rule, published on May 3, 2021 (86 FR 23241) in accordance with the Federal Civil Penalties Inflation Adjustment Act Improvements Act of 2015, providing the 2021 inflation adjustment to civil penalty amounts that may be imposed for violations of certain DOT regulations. Specifically, in amendatory instruction 19., DOT specified removal of “July 31, 2019” from appendix A to subpart D of 49 CFR 107, and replacement with “May 3, 2021”. The instruction should instead have directed removal of “January 11, 2021” and replacement with “May 3, 2021”. DOT publishes this final rule to effectuate that change.

Regulatory Analysis and Notices

DOT has determined that all of the regulatory reviews and analyses conducted in support of the May 3, 2021 final rule remain unchanged as a result of this final rule.

List of Subjects in 49 CFR Part 107

Administrative practices and procedure, Hazardous materials transportation, Packaging and containers, Penalties, Reporting and recordkeeping requirements.

Accordingly, the Department of Transportation amends 49 CFR part 107 with the following technical correction:

PART 107—[AMENDED]

1. The authority citation for part 107 continues to read as follows:

Authority: 49 U.S.C. 5101-5128, 44701; Pub. L. 101-410 Section 4; Pub. L. 104-121 Sections 212-213; Pub. L. 104-134 Section 31001; Pub. L. 114-74 Section 4 (28 U.S.C. 2461 note); 49 CFR 1.81 and 1.97; 33 U.S.C. 1321.

Appendix A to Subpart D of Part 107 [Amended]

2. In appendix A to subpart D of part 107, in the second paragraph of section B. “Penalty Increases for Multiple Counts,” remove “January 11, 2021” and add in its place “May 3, 2021”.

Signed in Washington, DC, on or about May 24, 2021.
John E. Putnam,
Acting General Counsel.

[FR Doc. 2021-11283 Filed 6-1-21; 8:45 am]

BILLING CODE P